SMALL BUSINESS ADMINISTRATION

[License No. 05/05-0344]

Convergent Capital Partners IV, LP; Notice Seeking Exemption Under Section 312 of the Small Business Investment Act, Conflicts of Interest

Notice is hereby given that Convergent Capital Partners IV, LP, 9855 West 78th Street, Suite 320, Eden Prairie, MN 55344, a Federal Licensee under the Small Business Investment Act of 1958, as amended (“the Act”), in connection with the financing of a small concern, has sought an exemption under section 312 of the Act and 13 CFR 107.730, Financings which Constitute Conflicts of Interest of the Code of Federal Regulations. Convergent Capital Partners IV, LP, is seeking a written exemption from SBA for a proposed financing to Optimum Healthcare IT, LLC, 1300 Marsh Landing Parkway, Jacksonville Beach, FL 32250.

The financing is brought within the purview of 13 CFR 107.730(a)(4) of the Code of Federal Regulations because proceeds from the financing will discharge the obligation of Convergent Capital Partners III, LP, an Associate by virtue of Common Control as defined at 13 CFR 107.50.

Notice is hereby given that any interested person may submit written comments on this transaction within fifteen days of the date of this publication to the Associate Administrator, Office of Investment and Innovation, U.S. Small Business Administration, 409 Third Street SW, Washington, DC 20416.

Bailey DeVries,
Associate Administrator, Office of Investment and Innovation, U.S. Small Business Administration.

[FR Doc. 2022-28212 Filed 12-27-22; 8:45 am]

BILLING CODE P